DEPARTMENT OF AGRICULTURE

Submission for OMB Review; Comment Request

August 24, 2020.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by September 28, 2020. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Regulations Governing for Voluntary Grading of Shell Eggs, Poultry Product, and Rabbit Product-7 CFR part 54, 56, 62 and 70

OMB Control Number: 0581-0128.

Summary of Collection: The Agricultural Marketing Act of 1946 (60 Stat. 1087-1091, as amended; 7 U.S.C. 1621-1627) (AMA) directs and authorizes the Secretary of Agriculture to provide consumers with voluntary Federal grading and certification services that facilitate the marketing of agricultural commodities. The Quality Assessment Division (QAD) provides these services under the authority of 7 CFR parts 54, 56, and 70. The regulations provide a voluntary program for grading and certification services based on U.S. standards, grades, and weight classes to enable orderly marketing of the corresponding agricultural products. The regulation in 7 CFR part 62, Quality Systems Verification Programs (QSVP) is a collection of voluntary, audit-based, user-fee fund programs that allow applicants to have program documentation and program processes assessed by AMS auditor(s) and other USDA officials. This program is made available to respondents who would need to request or apply for the specific service they wish on a user fee-for-service basis.

Need and Use of the Information: Using forms LPS-109, LPS-110, LPS-157, LPS-240P, LPS-240S, LPS-210P, LPS-210S and LPS-234, information is collected only from respondents who elect to utilize this voluntary user fee-for-service. Only authorized representatives of the USDA use the information collected. The information is used to administer, conduct and carry out the grading services requested by the respondents. If the information were not collected, the agency would not be able to provide the voluntary grading services authorized and requested by congress, provide the types of services requested by industry, administer the program, ensure properly grade-labeled products, calculate the cost of the service or collect for the cost furnishing service.

Description of Respondents: Business or other for profit, Farms.

Number of Respondents: 1,639.

Frequency of Responses: Reporting: On occasion; Semi-annually; Monthly; Annually; Other (daily).

Total Burden Hours: 9,265.

Agricultural Marketing Service

Title: USDA Farmers Market Application.

OMB Control Number: 0581-0229.

Summary of Collection: The Agricultural Marketing Act of 1946 (7 U.S.C. 1622(n) authorizes the Secretary to conduct services and to perform activities that will facilitate the marketing and utilization of agricultural products through commercial channels. The Agricultural Marketing Service (AMS) is authorized to implement established regulations and procedures under 7 CFR part 170 for AMS to operate the U.S. Department of Agriculture (USDA) Farmers Market, specify vendor criteria and selection procedures, and define guidelines to be used for governing the USDA Farmers Market annually.

Need and Use of the Information: Information will be collected on form TM-28, “USDA Farmers Market Application.” The application was developed to ensure a uniform and fair process for deciding which farm operations are allowed to participate in the market, as well as ensure diversity of product for consumers. The Program has expanded to a year-round market. The Summer/Outdoor market season is from June through November and the Winter/Indoor market season operates from December through May. AMS will collect information to review the type of products available for sale and selecting participants for the annual market season. The information collected consists of (1) certification that the applicant is the owner or a representative of the farm or business; (2) name(s), address, telephone number and email address; (3) farm or business location; (4) types of products grown; (5) business practices; and (6) insurance coverage. Without an application and guidelines, AMS will be unable to continue operating annually each market season.

Description of Respondents: Business or other for-profit; Farms; Individuals.

Number of Respondents: 60.

Frequency of Responses: Reporting: Annually.

Total Burden Hours: 193.

Ruth Brown,
Departmental Information Collection Clearance Officer.

[FR Doc. 2020-18922 Filed 8-27-20; 8:45 am]

BILLING CODE 3410-02-P